DEPARTMENT OF DEFENSE

Department of the Navy

Notice of Closed Meeting of the Secretary of the Navy Advisory Panel

AGENCY: Department of the Navy, DoD.

ACTION: Notice.

SUMMARY: The Secretary of the Navy Advisory Panel will report on the findings and recommendations for Department of the Navy intelligence and information related strategies, activities, processes, organization, and governance.

DATES: The meeting will be held on April 24th and April 25th 2008 from 8 a.m. to 5 p.m.

ADDRESSES: The meeting will be held in the Secretary of the Navy's Conference Room in the Pentagon and the Pentagon Joint Staff Conference Center.

FOR FURTHER INFORMATION CONTACT: Colonel Caroline Simkins-Mullins, SECNAV Advisory Panel, Office of Program and Process Assessment 1000 Navy Pentagon, Washington, DC 20350, telephone: 703-697-9154.

SUPPLEMENTARY INFORMATION: Pursuant to the provisions of the Federal Advisory Committee Act (5 U.S.C. App. 2), these matters constitute classified information that is specifically authorized by Executive Order to be kept secret in the interest of national defense and are, in fact, properly classified pursuant to such Executive Order. Accordingly, the Secretary of the Navy has determined in writing that the public interest requires that all sessions of this meeting be closed to the public because they will be concerned with matters listed in section 552b(c)(1) of title 5, United States Code.

Individuals or interested groups may submit written statements for consideration by the Secretary of the Navy Advisory Panel at any time or in response to the agenda of a scheduled meeting. All requests must be submitted to the Designated Federal Officer at the address detailed below.

If the written statement is in response to the agenda mentioned in this meeting notice then the statement, if it is to be considered by the Panel for this meeting, must be received at least five days prior to the meeting in question.

The Designated Federal Officer will review all timely submissions with the Secretary of the Navy Advisory Panel Chairperson, and ensure they are provided to members of the Secretary of the Navy Advisory Panel before the meeting that is the subject of this notice.

To contact the Designated Federal Officer, write to: Designated Federal Officer, SECNAV Advisory Panel, Office of Program and Process Assessment 1000 Navy Pentagon, Washington, DC 20350; telephone: 703-697-9154.

Dated: March 31, 2008.
T.M. Cruz,
Lieutenant, Judge Advocate General's Corps, U.S. Navy, Federal Register Liaison Officer.

[FR Doc. E8-6967 Filed 4-3-08; 8:45 am]

BILLING CODE 3810-FF-P